NATIONAL TRANSPORTATION SAFETY BOARD

Public Forum—Awake, Alert, Alive: Overcoming the Dangers of Drowsy Driving

On Tuesday, October 21, the National Transportation Safety Board (NTSB) will convene a public forum titled Awake, Alert, Alive: Overcoming the Dangers of Drowsy Driving. This event is free and open to the public. No preregistration is required. NTSB Board Member Mark R. Rosekind, Ph.D., will serve as the presiding officer of the forum.

The 1-day forum will focus on the problem of drowsy driving, its prevalence, and how it affects driving safety in noncommercial vehicles. Invited panelists will examine the risk factors associated with drowsy driving and consider various countermeasures to address drowsy driving and drowsy driving crashes.

Below is the preliminary agenda:

Tuesday, October 21, 2014 (08:30 a.m.-5:00 p.m.)

1. Opening Statement by Member Mark Rosekind

2. Presentations on: Introduction and Scope of the Problem

3. Questions from the Technical Panel and Board Member

4. Presentations on: Workplace Issues

5. Questions from the Technical Panel and Board Member

6. Presentations on: Concerns for Novice Drivers

7. Questions from the Technical Panel and Board Member

8. Lunch Break

9. Presentations on: Health Issues

10. Questions from the Technical Panel and Board Member

11. Presentations on: In-Vehicle and Roadway Factors

12. Questions from the Technical Panel and Board Member

13. Presentations on: Countermeasures and Future Directions

14. Questions from the Technical Panel and Board Member

15. Closing Statement by Member Mark Rosekind

The full agenda and a list of participants can be found at the following Web address: http://www.ntsb.gov/news/events/2014/drowsydrivingforum/.

The forum will be held in the NTSB Board Room and Conference Center, located at 429 L'Enfant Plaza E. SW., Washington, DC. The public can view the hearing in person or by live webcast at www.ntsb.gov. Webcast archives are generally available by the end of the next day following the hearing, and webcasts are archived for a period of 3 months from after the date of the event.

Individuals requiring reasonable accommodation and/or wheelchair access directions should contact Ms. Rochelle Hall at (202) 314-6305 or by email at Rochelle.Hall@ntsb.gov byWednesday, October 15, 2014.

NTSB Media Contact: Keith Holloway—keith.holloway@ntsb.gov.

NTSB Forum Manager: Jana Price—jana.price@ntsb.gov.

Dated: October 3, 2014.
Candi R. Bing,
Federal Register Liaison Officer.

[FR Doc. 2014-24004 Filed 10-7-14; 8:45 am]

BILLING CODE 7533-01-P